DEPARTMENT OF COMMERCE

National Oceanic and Atmospheric Administration

RIN 0648-XF666

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday, and Thursday, September 26, 27, and 28, 2017, beginning at 9 a.m. on September 26, 8:30 a.m. on September 27, and 8:30 a.m. on September 28.

ADDRESSES:

Meeting address: The meeting will be held at the Beauport Hotel, 55 Commercial Street, Gloucester, MA 01930; telephone (978) 282-0008; online at www.beauporthotel.com.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, September 26, 2017

After introductions and brief announcements, the meeting will begin with the swearing-in of reappointed Council members, followed by the election of 2017-2018 officers. The Council then will hear reports from the Council Chairman and Executive Director, NMFS's Regional Administrator for the Greater Atlantic Regional Fisheries Office (GARFO), liaisons from the Northeast Fisheries Science Center (NEFSC) and Mid-Atlantic Fishery Management Council, representatives from NOAA General Counsel and the Office of Law Enforcement, and staff from the Atlantic States Marine Fisheries Commission and U.S. Coast Guard. In addition, the Northeast Trawl Advisory Panel will provide a report. Next, the Council will hear from its Whiting Committee, which will cover three items of business. The first involves Amendment 22 to the Northeast Multispecies Fishery Management Plan (FMP). The amendment is being developed to potentially limit access to the small-mesh multispecies fishery, which includes red, silver, and offshore hakes. The Council is expected to select limited access, permitting, and possession limit preferred alternatives for Amendment 22 to send to public hearing. Next, the Whiting Plan Development Team (PDT) will present the Annual Monitoring Report, which summarizes 2016 fishing year activity and contains an assessment update and specification recommendations. Finally, the Council will initiate an action to develop 2018-20 specifications for the small-mesh multispecies fishery.

Following the lunch break, the Council will resume the whiting discussion if necessary. Otherwise, it will move on to the Atlantic Herring Committee report and address three items related to Draft Amendment 8 to the Atlantic Herring FMP. First, the Council will review and clarify unresolved details related to alternatives under consideration in the amendment. Next, it will review results from the Management Strategy Evaluation process used to develop a new acceptable biological catch (ABC) control rule for Atlantic herring. Finally, the Council potentially will select preferred alternatives for an ABC control rule. Following these actions, the Council will adjourn for the day.

Wednesday, September 27, 2017

The second day of the meeting will begin with a report from the Transboundary Resource Assessment Committee (TRAC) summarizing results from the 2017 stock assessments for Eastern Georges Bank cod, Eastern Georges Bank haddock, and Georges Bank yellowtail flounder. The Scientific and Statistical Committee (SSC) will report next with 2018-19 overfishing limit (OFL) and ABC recommendations for Georges Bank yellowtail flounder and the Northeast skate complex. A short SSC working group update will follow. Next, the Council will hear from U.S. representatives to the Transboundary Management Guidance Committee (TMGC) and potentially approve TMGC recommendations for 2018 total allowable catches (TACs) for shared U.S./Canada groundfish stocks on Georges Bank. The TMGC considers TRAC advice when formulating recommendations. Members of the public then will be able to speak during an open comment period on issues that relate to Council business but are not included on the published agenda for this meeting. The Council asks the public to limit remarks to 3-5 minutes. Following the public comment period, the Council will receive a Groundfish Committee report, beginning with an update on Framework Adjustment 57 to the Northeast Multispecies FMP. The framework includes: (1) 2018-2020 Fishery specifications; (2) 2018 TACs for U.S./Canada stocks; (3) Atlantic halibut accountability measures (AMs); (4) recreational management measures; (5) common pool trimester TAC adjustments; and (6) southern windowpane flounder AMs. During the Groundfish Committee report, the Council also will receive and potentially further discuss the TMGC's TAC recommendations for U.S./Canada shared stocks and the SSC's OFL and ABC recommendations for Georges Bank yellowtail flounder. Finally, the Committee will present a progress report on Groundfish Monitoring Amendment 23.

After a lunch break, the Groundfish Committee report will continue until related business is concluded. The Skate Committee Report will follow. The Council will receive the Annual Monitoring Report on fishing year 2016 activity and then discuss Framework Adjustment 5 to the Northeast Skate Complex FMP. The Council may consider final action on the framework, which was initiated to develop fishing year 2018-2019 specifications and allow the landing of barndoor skates. The Council also will receive an update on Amendment 5 to potentially develop a limited access program for skates. At the conclusion of the skate discussion, the Council will adjourn for the day.

Thursday, September 28, 2017

The third day of the meeting will begin with a preliminary discussion of 2018 Council priorities. Here, the Council will review and discuss a draft list of possible actions and tasks for further development in 2018 covering all committees. The Council will not take final action on priorities until its December meeting. Next, the Council will hear from its Scallop Committee, beginning with a summary of 2017 scallop survey results. The Council then will receive a progress report on Framework Adjustment 29 to the Atlantic Sea Scallop FMP. This framework contains: (1) Fishery specifications for the 2018 fishing year and default specifications for 2019; (2) scallop fishery AMs for yellowtail flounder and windowpane flounder; (3) Northern Gulf of Maine Management Area modifications; and (4) Closed Area I Scallop Access Area changes to be consistent with pending habitat area revisions. The Ecosystem-Based Fishery Management (EBFM) Committee then will provide a progress report on developing an example Fishery Ecosystem Plan for Georges Bank. The EBFM PDT will report on the application of operating models for a Georges Bank Ecosystem Production Unit, describing how the models could be used to support a Management Strategy Evaluation. Next, the Council will receive three brief habitat-related updates: One on the Omnibus Deep-Sea Coral Amendment; another on the Clam Dredge Framework; and a third on wind energy development.

Following a lunch break, the Council will receive an update on the status of the Council Program Review. The Research Steering Committee will report next on three issues: (1) Developing a process to prioritize Council research priorities; (2) providing input to the Northeast Cooperative Research Program; and (3) reviewing collaborative research projects. The Council then will discuss two issues related to Standardized Bycatch Reporting Methodology (SBRM). First the Council is expected to take final action on the SBRM Omnibus Framework Adjustment to address assigning at-sea observers to the lobster pot fleet in an unbiased manner through the Northeast Fishery Observer Program. It then will receive an update on the SBRM Three-Year Report. The Council will close out the meeting with “other business” and then potentially go into closed session to discuss ongoing litigation.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: September 5, 2017.
Tracey L. Thompson,
Acting Deputy Director, Office of Sustainable Fisheries, National Marine Fisheries Service.

[FR Doc. 2017-19057 Filed 9-7-17; 8:45 am]

BILLING CODE 3510-22-P